DEPARTMENT OF TRANSPORTATION

Federal Aviation Administration

14 CFR Part 129

[Docket No. FAA-2009-0140; Amdt. No. 129-49-A]

RIN 2120-AJ45

Operations Specifications; Correction

AGENCY: Federal Aviation Administration (FAA), DOT.

ACTION: Final rule; correction.

SUMMARY: The FAA is correcting a final rule published on February 10, 2011 (76 FR 7482). In that rule, the FAA amended its regulations to clarify and standardize the rules for applications by foreign air carriers and foreign persons for part 129 operations specifications and establish new standards for amendment, suspension, and termination of those operations specifications. This document corrects errors in the codified text of that document.

DATES: The final rule and this correction will become effective on April 11, 2011.

FOR FURTHER INFORMATION CONTACT: For technical questions contact Darcy D. Reed, International Programs and Policy Division, AFS-50, Flight Standards Service, Federal Aviation Administration, 800 Independence Avenue, SW., Washington DC 20591; e-mail: Darcy.D.Reed@faa.gov; Telephone: 202-385-8078. For legal questions contact Lorna John, Office of the Chief Counsel, Regulations Division, AGC-200, Federal Aviation Administration, 800 Independence Avenue, SW., Washington, DC 20591; e-mail: Lorna.John@faa.gov; Telephone: 202-267-3921.

SUPPLEMENTARY INFORMATION:

Background

On February 10, 2011, the FAA published a final rule entitled, “Operations Specifications” (76 FR 7482).

In that final rule the FAA revised its regulations to clarify and standardize the rules for applications by foreign air carriers and foreign persons for part 129 operations specifications and establish new standards for amendment, suspension, and termination of those operations specifications. As part of the amendment, the FAA added new § 129.9(a)(2) and (b)(2) concerning the designation of an agent for service. The DATES section correctly listed the compliance date for § 129.9(a)(2) and (b)(2) as February 10, 2012. Section 129.9(a)(2) and (b)(2) in the regulatory text incorrectly stated that the compliance date was “Within 1 year after February 10, 2012.”

Correction

In FR Doc. 2011-2834, beginning on page 7484 in the Federal Register of February 10, 2011, make the following corrections:

Corrections to Regulatory Text

§ 129.9 [Corrected]

1. On page 7489, in the third column, in § 129.9(a)(2) and (b)(2), remove the words “February 10, 2012” and add in their place the words “February 10, 2011”.

Issued in Washington, DC, on March 15, 2011.
Pamela Hamilton-Powell,
Director, Office of Rulemaking.

[FR Doc. 2011-6489 Filed 3-18-11; 8:45 am]

BILLING CODE 4910-13-P